DEPARTMENT OF COMMERCE

International Trade Administration

[A-570-501]

Natural Bristle Paint Brushes and Brush Heads From the People's Republic of China; Notice of Rescission of Antidumping Duty Administrative Review

AGENCY: Import Administration, International Trade Administration, Department of Commerce.

ACTION: Notice of rescission of antidumping duty administrative review.

SUMMARY: On March 30, 2000, in response to a request by the Paint Applicator Division of the American Brush Manufacturers Association, petitioner, the Department of Commerce (the Department) initiated an administrative review of the antidumping duty order on natural bristle paint brushes and brush heads from the People's Republic of China (PRC). This review covers two exporters of the subject merchandise, Hebei Animal By-Products Import/Export Corp. (a.k.a Hebei Founder Import & Export Company (Founder)) and Hunan Provincial Native Produce & Animal By-Products Import & Export Corp. (Hunan). The period of review is February 1, 1999 through January 31, 2000. We are now rescinding this review as a result of the absence of shipments and entries from these two companies of subject merchandise during the period of review (POR).

EFFECTIVE DATE: October 20, 2000.

FOR FURTHER INFORMATION CONTACT: Christian Hughes or Maureen Flannery, AD/CVD Enforcement, Import Administration, International Trade Administration, U.S. Department of Commerce, 14th Street & Constitution Avenue, N.W., Washington, D.C. 20230, telephone: (202) 482-4106 and (202) 482-3020, respectively.

SUPPLEMENTARY INFORMATION:

Applicable Statute and Regulations

Unless otherwise indicated, all citations to the Tariff Act of 1930, as amended, are to the provisions effective January 1, 1995, the effective date of the amendments made to the Tariff Act by the Uruguay Agreements Act (URAA). In addition, unless otherwise indicated, all citations to the Department's regulations are to the regulations codified at 19 CFR part 351 (1999).

Scope of Review

Imports covered by this review are shipments of natural bristle paint brushes and brush heads from the PRC. Excluded from the review are paint brushes and brush heads with a blend of 40% natural bristles and 60% synthetic filaments. The merchandise under review is currently classifiable under item 9603.40.40.40 of the Harmonized Tariff Schedule of the United States (HTSUS). Although the HTSUS subheading is provided for convenience and customs purposes, the Department's written description of the merchandise is dispositive.

Background

On February 14, 2000, the Department published a notice of opportunity to request an administrative review of the antidumping duty order on natural bristle brushes and brush heads from the PRC (65 FR 7348). On February 29, 2000, petitioners in this proceeding requested a review of sales made by Founder and by Hunan during the period February 1, 1999 to January 31, 2000.

On March 30, 2000, the Department initiated an administrative review (65 FR 16875). On April 12, 2000, Founder, and on May 22, 2000, Hunan submitted a certification to the Department that they did not, directly or indirectly, enter for consumption, or sell, export, or ship for entry for consumption in the United States subject merchandise during the period of review. The Department performed a customs query for entries from the PRC classified under HTS number 9603.40.40.40 during the period of review and found no entries of subject merchandise from these parties during that time period. In response to a telephone inquiry, counsel for petitioners stated that they had no information to the contrary. See Memorandum to the File from Christian Hughes: Natural Bristle Paint Brushes and Brush Heads from the People's Republic of China; Hebei Animal By-Products Import/Export Corp. (a.k.a. Hebei Founder Import & Export Company (Founder)) and Hunan Provincial Native Produce & Animal By-Products Import & Export Corp. (Hunan), dated October 6, 2000. Therefore, we have determined that there were no entries into the customs territory of the United States of the subject merchandise during the POR exported by Founder or Hunan.

Rescission of Review

Pursuant to 19 CFR 351.213(d)(3), the Department may rescind an administrative review, in whole or only with respect to a particular exporter or producer, if the Secretary concludes that, during the period covered by the review, there were no entries, exports, or sales of the subject merchandise. In light of our determination that neither Founder nor Hunan exported or entered the subject merchandise into the territory of the United States during the POR, we are rescinding this review.

This notice is published in accordance with 19 CFR 351.213(d)(3) and (4).

Dated: October 13, 2000.
Barbara E. Tillman,
Acting Deputy Assistant Secretary for AD/CVD Enforcement Group III.

[FR Doc. 00-27079 Filed 10-19-00; 8:45 am]

BILLING CODE 3510-DS-P